DEPARTMENT OF ENERGY

Federal Energy Regulatory Commission

Combined Notice of Filings #1

Take notice that the Commission received the following electric corporate filings:

Docket Numbers: EC22-31-000.

Applicants: CPV Fairview, LLC.

Description: Application for Authorization Under Section 203 of the Federal Power Act of CPV Fairview, LLC.

Filed Date: 1/3/22.

Accession Number: 20220103-5306.

Comment Date: 5 p.m. ET 1/24/22.

Take notice that the Commission received the following electric rate filings:

Docket Numbers: ER10-2721-011.

Applicants: El Paso Electric Company.

Description: Triennial Market Power Analysis for Southwest Region of El Paso Electric Company.

Filed Date: 12/30/21.

Accession Number: 20211230-5164.

Comment Date: 5 p.m. ET 2/28/22.

Docket Numbers: ER10-2906-018; ER10-2908-018; ER19-1716-006.

Applicants: Morgan Stanley Energy Structuring, L.L.C., MS Solar Solutions Corp., Morgan Stanley Capital Group Inc.

Description: Triennial Market Power Analysis for Southwest Region of Morgan Stanley Capital Group Inc., et al.

Filed Date: 12/30/21.

Accession Number: 20211230-5283.

Comment Date: 5 p.m. ET 2/28/22.

Docket Numbers: ER10-3026-009; ER12-1470-010; ER16-1833-006; ER18-836-003.

Applicants: Energia Sierra Juarez 2 U.S., LLC, Sempra Gas & Power Marketing, LLC, Energia Sierra Juarez U.S., LLC, Termoelectrica U.S., LLC.

Description: Triennial Market Power Analysis for Southwest Region of Termoelectricia U.S., LLC, et al.

Filed Date: 1/3/22.

Accession Number: 20220103-5314.

Comment Date: 5 p.m. ET 3/4/22.

Docket Numbers: ER10-3117-010.

Applicants: Lea Power Partners, LLC.

Description: Triennial Market Power Analysis for Southwest Power Pool Inc. Region of Lea Power Partners, LLC.

Filed Date: 12/30/21.

Accession Number: 20211230-5328.

Comment Date: 5 p.m. ET 2/28/22.

Docket Numbers: ER14-2499-007.

Applicants: Oneta Power, LLC.

Description: Triennial Market Power Analysis for Southwest Power Pool Inc. Region of Oneta Power, LLC.

Filed Date: 12/30/21.

Accession Number: 20211230-5285.

Comment Date: 5 p.m. ET 2/28/22.

Docket Numbers: ER15-1883-013; ER15-1418-013; ER19-1073-005; ER21-2294-001; ER22-415-001; ER21-2304-001; ER16-632-012; ER20-819-006; ER20-820-005; ER16-91-013; ER18-1978-008; ER12-199-018; ER13-1991-018; ER13-1992-018; ER10-1852-055; ER10-1890-019; ER11-2160-019; ER13-2112-014; ER16-90-012; ER17-2340-009; ER15-2477-012; ER11-3635-016; ER19-1392-007; ER10-1962-018; ER15-1375-013; ER20-2695-004; ER18-772-007; ER16-2443-009; ER11-4677-019; ER17-838-032; ER11-4462-057; ER10-1951-035; ER12-2444-018; ER12-676-015; ER17-196-007; ER18-807-008; ER11-2192-018; ER20-2380-004; ER15-1016-012; ER15-2243-010; ER21-1580-001; ER11-4678-019; ER17-582-010; ER17-583-010; ER12-631-020; ER19-1076-005; ER21-1813-003; ER21-1814-003.

Applicants: Yellow Pine Energy Center II, LLC, Yellow Pine Energy Center I, LLC, Windstar Energy, LLC, Windpower Partners 1993, LLC, Whitney Point Solar, LLC, Westside Solar, LLC, Vasco Winds, LLC, Sky River Wind, LLC, Silver State Solar Power South, LLC, Shafter Solar, LLC, Saint Solar, LLC, Red Mesa Wind, LLC, Pinal Central Energy Center, LLC, Pima Energy Storage System, LLC, Perrin Ranch Wind, LLC, North Sky River Energy, LLC, Gexa Energy L.L.C., NEPM II, LLC, NextEra Energy Marketing, LLC, NextEra Energy Montezuma II Wind, LLC, NextEra Blythe Solar Energy Center, LLC, New Mexico Wind, LLC, Mohave County Wind Farm LLC, McCoy Solar, LLC, High Winds, LLC, High Lonesome Mesa Wind, LLC, Hatch Solar Energy Center I, LLC, Golden Hills Wind, LLC, Golden Hills North Wind, LLC, Golden Hills Interconnection, LLC, Genesis Solar, LLC, FPL Energy Montezuma Wind, LLC, FPL Energy Green Power Wind, LLC, Florida Power & Light Company, Desert Sunlight 300, LLC, Desert Sunlight 250, LLC, Coram California Development, L.P., Casa Mesa Wind, LLC, Blythe Solar 110, LLC, Blythe Solar IV, LLC, Blythe Solar III, LLC, Blythe Solar II, LLC, Arlington Solar, LLC, Arlington Energy Center III, LLC, Arlington Energy Center II, LLC, Alta Wind VIII, LLC, Adelanto Solar II, LLC, Adelanto Solar, LLC.

Description: Triennial Market Power Analysis for Southwest Region of Adelanto Solar, LLC, et al.

Filed Date: 12/29/21.

Accession Number: 20211229-5229.

Comment Date: 5 p.m. ET 2/28/22.

Docket Numbers: ER20-2222-002.

Applicants: Crystal Lake Wind III, LLC.

Description: Compliance filing: Compliance Filing in Docket ER20-2222 to be effective 9/1/2020.

Filed Date: 1/3/22.

Accession Number: 20220103-5037.

Comment Date: 5 p.m. ET 1/24/22.

Docket Numbers: ER20-287-007.

Applicants: CPV Fairview, LLC.

Description: Compliance filing: Informational Filing Regarding Planned Transfer to be effective N/A.

Filed Date: 1/3/22.

Accession Number: 20220103-5281.

Comment Date: 5 p.m. ET 1/24/22.

Docket Numbers: ER22-221-000.

Applicants: DesertLink, LLC.

Description: Informational Update Regarding 2022 Base Transmission Revenue Requirement of DesertLink, LLC.

Filed Date: 1/3/22.

Accession Number: 20220103-5335.

Comment Date: 5 p.m. ET 1/24/22.

Docket Numbers: ER22-703-001.

Applicants: PJM Interconnection, L.L.C.

Description: Tariff Amendment: Amendment to Revisions to PJM's FTR Credit Requirement to be effective3/1/2022.

Filed Date: 12/30/21.

Accession Number: 20211230-5252.

Comment Date: 5 p.m. ET 1/20/22.

Docket Numbers: ER22-753-000.

Applicants: Consolidated Edison Company of New York, Inc.

Description: § 205(d) Rate Filing: PASNY RY3-WDS 1-1-2021 to be effective 1/1/2022.

Filed Date: 1/3/22.

Accession Number: 20220103-5008.

Comment Date: 5 p.m. ET 1/24/22.

Docket Numbers: ER22-754-000.

Applicants: Consolidated Edison Company of New York, Inc.

Description: § 205(d) Rate Filing: WDS RY 3 1-2022 to be effective 1/1/2022.

Filed Date: 1/3/22.

Accession Number: 20220103-5009.

Comment Date: 5 p.m. ET 1/24/22.

Docket Numbers: ER22-755-000.

Applicants: Southern California Edison Company.

Description: § 205(d) Rate Filing: Amended Letter Agreement 326FW 8me LLC SA No. 253 to be effective1/4/2022.

Filed Date: 1/3/22.

Accession Number: 20220103-5207.

Comment Date: 5 p.m. ET 1/24/22.

Docket Numbers: ER22-756-000.

Applicants: Central Hudson Gas & Electric Corporation.

Description: § 205(d) Rate Filing: Revision to FERC Rate Schedule 206 to be effective 12/1/2021.

Filed Date: 1/3/22.

Accession Number: 20220103-5331.

Comment Date: 5 p.m. ET 1/24/22.

Docket Numbers: ER22-757-000.

Applicants: Caddo Wind, LLC, Diamond Spring, LLC.

Description: § 205(d) Rate Filing: Caddo Wind, LLC submits tariff filing per 35.13(a)(2)(iii: Triennial Market Power Update and Seller Catergory Tariff Revision to be effective 3/5/2022.

Filed Date: 1/3/22.

Accession Number: 20220103-5347.

Comment Date: 5 p.m. ET 1/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2022.
Kimberly D. Bose,
Secretary.

[FR Doc. 2022-00092 Filed 1-6-22; 8:45 am]

BILLING CODE 6717-01-P